DEPARTMENT OF LABOR

Office of the Secretary

Submission for OMB Review: Comment Request

August 22, 2007.

The Department of Labor has submitted the following public information collection requests (ICR) to the Office of Management and Budget (OMB) for review and approval in accordance with the Paperwork Reduction Act of 1995 (Pub. L. 104-13, 44 U.S.C. chapter 35). Copies of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Comments should be sent to Office of Information and Regulatory Affairs, Attn: Carolyn Lovett, OMB Desk Officer for the Employment Standards Administration (ESA), Office of Management and Budget, Room 10235, Washington, DC 20503, Telephone: 202-395-7316/Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision and Extension of currently approved collection.

Title: Employer's First Report of Injury or Occupational Disease; Physician's Report on Impairment of Vision; and Employer's Supplementary Report of Accident or Occupational Illness.

OMB Control Number: 1215-0031.

Estimated Number of Respondents: 26,381.

Estimated Total Burden Hours: 6,595.

Affected Public: Private Sector: Business or other for-profits.

Description: The Forms LS-202 and LS-210 are used to report injuries, periods of disability, and medical treatment under the Longshore and Harbor Workers' Compensation Act.

Agency: Employment Standards Administration.

Type of Review: Revision and Extension of currently approved collection.

Title: Operator Controversion, Operator Response, Operator Response to Schedule for Submission of Additional Evidence, and Operator Response to Notice of Claim.

OMB Control Number: 1215-0058.

Estimated Number of Respondents: 8,000.

Estimated Total Burden Hours: 2,333.

Affected Public: Private Sector: Business or other for-profits.

Description: The Forms CM-2790 & CM-2970a are used for claims filed after January 19, 2001 and indicate that the coal mine operator will submit additional evidence or respond to the notice of claim.

Darrin A. King,
Acting Departmental Clearance Officer.

[FR Doc. E7-16961 Filed 8-27-07; 8:45 am]

BILLING CODE 4510-CF-P